NATIONAL COMMISSION ON LIBRARIES AND INFORMATION SCIENCE

The U.S. National Commission on Libraries and Information Science (NCLIS); Sunshine Act Meeting

Correction Notice

CLOSED MEETING: (Closing this meeting is taken in accordance with the exemption provided under Title 45, CFR, Part 1703.202(a)(9)), Los Angeles Times Building, 145 South Spring Street, Los Angeles, CA.

DISCUSSION TOPIC: The National Award for Library Service.

The time of the closed meeting on February 17, 2000 has been extended.

The meeting will be closed from 8:30 to 11:30 a.m.

For additional information, see Sunshine Meeting Notice published 01/25/00 @ 65 FR 3980.

Dated: January 28, 2000.
Robert S. Willard,
NCLIS Executive Director.

[FR Doc. 00-3201 Filed 2-8-00; 1:45 pm]

BILLING CODE 7527-01-M